DEPARTMENT OF COMMERCE

International Trade Administration

[A-570-979]

Crystalline Silicon Photovoltaic Cells, Whether or Not Assembled Into Modules, From the People's Republic of China: Final Results of Changed Circumstances Review

AGENCY: Enforcement and Compliance, International Trade Administration, Department of Commerce.

SUMMARY: On May 26, 2016, the Department of Commerce (the “Department”) published its notice of initiation and preliminary results of a changed circumstances review of the antidumping duty (“AD”) order on crystalline silicon photovoltaic cells, whether or not assembled into modules (“solar cells”), from the People's Republic of China (“PRC”).¹ The Department preliminarily determined that Hangzhou Sunny Energy Science and Technology Co., Ltd. (“Hangzhou Sunny”) is the successor-in-interest to Hangzhou Zhejiang University Sunny Energy Science and Technology Co., Ltd. (“Hangzhou ZU Sunny”) for purposes of the AD order on solar cells from the PRC and, as such, is entitled to Hangzhou ZU Sunny's cash deposit rate with respect to entries of subject merchandise. We invited interested parties to comment on the Preliminary Results. As no parties submitted comments, and there is no other information or evidence on the record calling into question our Preliminary Results, the Department is making no changes to the Preliminary Results. For these final results, the Department continues to find that Hangzhou Sunny is the successor in interest to Hangzhou ZU Sunny.

¹ See Initiation and Preliminary Results of Antidumping Duty Changed Circumstances Review: Crystalline Silicon Photovoltaic Cells, Whether or Not Assembled Into Modules From the People's Republic of China, 81 FR 33463 (May 26, 2016) (“Preliminary Results”), and accompanying Preliminary Decision Memorandum.

DATES: Effective Date: July 5, 2016.

FOR FURTHER INFORMATION CONTACT: Jeff Pedersen, AD/CVD Operations, Office IV, Enforcement and Compliance, International Trade Administration, U.S. Department of Commerce, 14th Street and Constitution Avenue NW., Washington, DC 20230; telephone: (202) 482-2769.

SUPPLEMENTARY INFORMATION:

Background

On December 7, 2012, the Department published the AD Order on solar cells from the PRC in the Federal Register.² On April 4, 2016, Hangzhou Sunny requested that the Department initiate an expedited changed circumstances review to determine that Hangzhou Sunny is the successor-in-interest to Hangzhou ZU Sunny for AD purposes.³ On May 20, 2016, the Department initiated a changed circumstances review and made a preliminary finding that Hangzhou Sunny is the successor-in-interest to Hangzhou ZU Sunny, and is entitled to Hangzhou ZU Sunny's cash deposit rate with respect to entries of merchandise subject to the AD Order on solar cells from the PRC.⁴ We provided interested parties 14 days from the date of publication of the Preliminary Results to submit case briefs. No interested parties submitted case briefs or requested a hearing.

² See Crystalline Silicon Photovoltaic Cells, Whether or Not Assembled Into Modules, From the People's Republic of China: Amended Final Determination of Sales at Less Than Fair Value, and Antidumping Duty Order, 77 FR 73018 (December 7, 2012) (“Order”).

³ See Letter from Hangzhou Sunny to the Department regarding, “Crystalline Silicon Photovoltaic Cells, Whether or Not Assembled Into Modules from the People's Republic of China: Request for Expedited Changed Circumstances Review” (April 4, 2016) (“CCR Request”).

⁴ See Preliminary Results, 81 FR 33463.

Scope of the Order

The merchandise covered by the Order is crystalline silicon photovoltaic cells, whether or not assembled into modules, subject to certain exceptions.⁵ Merchandise covered by this Order is currently classified in the Harmonized Tariff System of the United States (“HTSUS”) under subheadings 8501.61.0000, 8507.20.80, 8541.40.6020, 8541.40.6030, and 8501.31.8000. While these HTSUS subheadings are provided for convenience and customs purposes; the written description of the scope of this Order is dispositive.

⁵ For a complete description of the scope of the Order, see Memorandum to Paul Piquado, Assistant Secretary for Enforcement and Compliance, from Christian Marsh, Deputy Assistant Secretary for Antidumping and Countervailing Duty Operations, “Preliminary Results of Changed Circumstances Review: Crystalline Silicon Photovoltaic Cells, Whether or Not Assembled Into Modules, from the People's Republic of China” (“Preliminary Results Memorandum”).

Final Results of Changed Circumstances Review

Because the record contains no information or evidence that calls into question the Preliminary Results, for the reasons stated in the Preliminary Results, the Department continues to find that Hangzhou Sunny is the successor-in-interest to Hangzhou ZU Sunny, and is entitled to Hangzhou ZU Sunny's cash deposit rate with respect to entries of merchandise subject to the AD Order on solar cells from the PRC.⁶ We are issuing this determination and publishing these final results and notice in accordance with sections 751(b)(1) and 777(i)(1) and (2) of the Tariff Act of 1930, as amended (“the Act”), and 19 CFR 351.216 and 351.221(c)(3).

⁶ For a complete discussion of the Department's findings, which remain unchanged in these final results and which are herein incorporated by reference and adopted by this notice, see generally the Preliminary Results Memorandum accompanying the Preliminary Results.

Instructions to U.S. Customs and Border Protection

Based on these final results, we will instruct U.S. Customs and Border Protection to collect estimated antidumping duties for all shipments of subject merchandise exported by Hangzhou Sunny and entered, or withdrawn from warehouse, for consumption on or after the publication date of this notice in the Federal Register at the current AD cash deposit rate for Hangzhou ZU Sunny (i.e., 9.67 percent).⁷ This cash deposit requirement shall remain in effect until further notice.

⁷ See Crystalline Silicon Photovoltaic Cells, Whether or Not Assembled into Modules, from the People's Republic of China: Final Results of Antidumping Duty Administrative Review and Final Determination of No Shipments; 2012-2013, 80 FR 40998 (June 14, 2015).

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing this final results notice in accordance with sections 751(b) and 777(i) of the Act and 19 CFR 351.216.

Dated: June 28, 2016.
Paul Piquado,
Assistant Secretary for Enforcement and Compliance.

[FR Doc. 2016-15836 Filed 7-1-16; 8:45 am]

BILLING CODE 3510-DS-P